DEPARTMENT OF ENERGY

Federal Energy Regulatory Commission

[Project No. 14804-003]

Control Technology, Inc.; Notice of Intent To File License Application, Filing of Pre-Application Document (Pad), Commencement of Pre-Filing Process, and Scoping, Request for Comments on the Pad and Scoping Document, and Identification of Issues and Associated Study Requests

a. Type of Filing: Notice of Intent to File License Application for an Original License, Commencing Pre-filing Process, and Denial of Request to Use the Traditional Licensing Process.

b. Project No.: 14804.

c. Dated Filed: May 25, 2021.

d. Submitted By: Control Technology, Inc. (Control Technology).

e. Name of Project: Blue Diamond Advanced Pumped Storage Project.

f. Location: Near the town of Blue Diamond, in Clark County, Nevada. The project would occupy an unknown acreage of federal land administered by the Bureau of Land Management (BLM).

g. Filed Pursuant to: 18 CFR 5.3 of the Commission's regulations.

h. Applicant Contact: Mr. Rexford Wait, Control Technology, Inc., 2416 Cades Way, Vista, CA 92081; (760) 599-0086; email: rwait@controltechnology.org.

i. FERC Contact: Evan Williams, (202) 502-8462, evan.williams@ferc.gov.

j. Control Technology filed its Pre-Application Document (PAD) and request to use the Traditional Licensing Process (TLP) on May 25, 2021, and published public notice of its Notice of Intent to file a license application, PAD, and request to use the TLP on November 2, 2021. The Commission denied the request to use the TLP on January 27, 2022. Control Technology must use the Integrated Licensing Process to prepare a license application for the Blue Diamond Advanced Pumped Storage Project.

k. Cooperating agencies: Federal, state, local, and tribal agencies with jurisdiction and/or special expertise with respect to environmental issues that wish to cooperate in the preparation of the environmental document should follow the instructions for filing such requests described in item o below. Cooperating agencies should note the Commission's policy that agencies that cooperate in the preparation of the environmental document cannot also intervene. See 94 FERC ¶ 61,076 (2001).

l. With this notice, we are initiating informal consultation with: (a) The U.S. Fish and Wildlife Service and/or NOAA Fisheries under section 7 of the Endangered Species Act and the joint agency regulations thereunder at 50 CFR, Part 402; (b) NOAA Fisheries under section 305(b) of the Magnuson-Stevens Fishery Conservation and Management Act; and (c) the Nevada State Historic Preservation Officer, as required by section 106, National Historic Preservation Act, and the implementing regulations of the Advisory Council on Historic Preservation at 36 CFR 800.2.

m. With this notice, we are designating Control Technology as the Commission's non-federal representative for carrying out informal consultation, pursuant to section 7 of the Endangered Species Act, and section 106 of the National Historic Preservation Act.

n. A copy of the PAD is available for review on the Commission's website (http://www.ferc.gov), using the “eLibrary” link. Enter the docket number, excluding the last three digits in the docket number field to access the document. At this time, the Commission has suspended access to the Commission's Public Reference Room, due to the proclamation declaring a National Emergency concerning the Novel Coronavirus Disease (COVID-19) pandemic, issued by the President on March 13, 2020. For assistance, contact FERC Online Support at FERCONlineSupport@ferc.gov, (866) 208-3676 (toll free), or (202) 502-8659 (TTY). A copy is also available via the contact in paragraph h.

You may register online at https://ferconline.ferc.gov/FERCOnline.aspx to be notified via email of new filing and issuances related to this or other pending projects. For assistance, contact FERC Online Support.

o. With this notice, we are soliciting comments on the PAD and Commission's staff Scoping Document 1 (SD1), as well as study requests. All comments on the PAD and SD1, and study requests should be sent to the address above in paragraph h. In addition, all comments on the PAD and SD1, study requests, requests for cooperating agency status, and all communications to and from Commission staff related to the merits of the potential application must be filed with the Commission.

The Commission strongly encourages electronic filing. Please file documents using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Blue Diamond Advanced Pumped Storage Project (P-14804).

All filings with the Commission must bear the appropriate heading: “Comments on Pre-Application Document,” “Study Requests,” “Comments on Scoping Document 1,” “Request for Cooperating Agency Status,” or “Communications to and from Commission Staff.” Any individual or entity interested in submitting study requests, commenting on the PAD or SD1, and any agency requesting cooperating status must do so by April 29, 2022.

p. The Commission's scoping process will help determine the required level of analysis and satisfy the National Environmental Policy Act (NEPA) scoping requirements, irrespective of whether the Commission prepares an environmental assessment or environmental impact statement.

Scoping Process

Due to on-going concerns with large gatherings related to COVID-19, we do not intend to hold in-person public scoping meetings or an in-person environmental site review. Rather, Commission staff will hold two public scoping meetings using a telephone conference line. The daytime scoping meeting will focus on resource agency, Indian tribes, and non-governmental organization (NGO) concerns, while the evening scoping meeting will focus on receiving input from the public. We invite all interested agencies, Native American tribes, NGOs, and individuals to attend one of these meetings to assist us in identifying the scope of environmental issues that should be analyzed in the NEPA document. In addition, Control Technology will provide a presentation of the proposed project prior to the scoping meeting date that can be accessed at: https://controltechnologyorg.sharepoint.com/:f:/s/BlueDiamondPumpedStorageProject/EoXtMViiW0dLthriIlViL5cBU8j0nYedHiX8TIVojEcLoA?e=S0Djpp. The dates and times of the meetings are listed below.

Meeting for Resource Agencies, Tribes, and NGOs

Tuesday, March 29, 2022, 9:00 a.m.-12:00 p.m. PST

Call in number: (800) 779-8625.

Access code: 3472916.

Following entry of the access code, please provide the required details when prompted.

Meeting for the General Public

Tuesday, March 29, 2022, 6:00 p.m.-8:00 p.m. PST

Call in number: (800) 779-8625.

Access code: 3472916.

Following entry of the access code, please provide the required details when prompted.

SD1, which outlines the subject areas to be addressed in the environmental document, was mailed to the individuals and entities on the Commission's mailing list and Control Technology's distribution list. Copies of SD1 may be viewed on the web at http://www.ferc.gov, using the “eLibrary” link. Enter the docket number excluding the last three digits in the docket number field to access the document. Based on all oral and written comments, a Scoping Document 2 (SD2) may be issued. SD2 will include a revised process plan and schedule, as well as a list of issues, based on the scoping process.

Meeting Objectives

At the scoping meetings, Commission staff will: (1) Initiate scoping of the issues; (2) review and discuss existing conditions; (3) review and discuss existing information and identify preliminary information and study needs; (4) review and discuss the process plan and schedule for pre-filing activity that incorporates the time frames provided for in Part 5 of the Commission's regulations and, to the extent possible, maximizes coordination of federal, state, and tribal permitting and certification processes; and (5) discuss the potential of any federal or state agency or Indian tribe to act as a cooperating agency for development of an environmental document. Meeting participants should come prepared to discuss their issues and/or concerns. Please review the PAD in preparation for the scoping meetings. Directions on how to obtain a copy of the PAD and SD1 are included in item n of this document.

Meeting Procedures

Commission staff will be moderating the scoping meetings. The meetings will begin promptly at their respective start times listed above.

At the start of the meeting, staff will provide further instructions regarding the meeting setup, agenda, and time period for comments and questions. We ask for your patience as staff present information and field participant comments in orderly manner. To indicate you have a question or comment, press * and 3 to virtually “raise your hand”. Oral comments will be limited to 5 minutes in duration for each participant. The meetings will be recorded by a stenographer and will be filed to the public record of the project.

Please note, that if no participants join the meetings within 15 minutes after the start time, staff will end the meeting and conference call. The meetings will end after participants have presented their oral comments or at the specified end time, whichever occurs first.

Dated: February 28, 2022.
Kimberly D. Bose,
Secretary.

[FR Doc. 2022-04686 Filed 3-4-22; 8:45 am]

BILLING CODE 6717-01-P